DEPARTMENT OF ENERGY

[Docket No. 12-156-LNG]

Golden Pass LNG Terminal LLC; Request for Extension of Commencement Deadline

AGENCY: Office of Fossil Energy and Carbon Management, Department of Energy.

ACTION: Notice of request.

SUMMARY: The Office of Fossil Energy and Carbon Management (FECM) of the Department of Energy (DOE), formerly the Office of Fossil Energy (FE), gives notice (Notice) of receipt of a request (Request) filed by Golden Pass LNG Terminal LLC (GPLNG or Golden Pass LNG) on August 28, 2024. GPLNG requests an extension of the deadline in its current authorization to export domestically produced liquefied natural gas (LNG) to non-free trade agreement countries, set forth in DOE/FE Order No. 3978, as amended, to allow GPLNG to commence commercial export operations from the proposed GPLNG Export Terminal by March 31, 2027. This modification would extend GPLNG's existing commencement deadline by eighteen months. GPLNG filed the Request under the Natural Gas Act (NGA) and pursuant to DOE's Policy Statement on Export Commencement Deadlines in Authorizations to Export Natural Gas to Non-Free Trade Agreement Countries (Commencement Extension Policy). Protests, motions to intervene, notices of intervention, and written comments are invited.

DATES: Protests, motions to intervene, or notices of intervention, as applicable, requests for additional procedures, and written comments are to be filed as detailed in the Public Comment Procedures section no later than 4:30 p.m., Eastern time, October 28, 2024.

ADDRESSES:

Electronic Filing by Email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov

Cassandra Bernstein, U.S. Department of Energy (GC-76), Office of the Assistant General Counsel for Energy Delivery and Resilience, Forrestal Building, Room 6D-033, 1000 Independence Avenue SW, Washington, DC 20585, (240) 780-1691, cassandra.bernstein@hq.doe.gov

SUPPLEMENTARY INFORMATION:

Background

On April 25, 2017, in DOE/FE Order No. 3978 (as amended),¹ DOE authorized GPLNG to export domestically produced LNG by vessel from the proposed GPLNG Export Terminal ² in Sabine Pass, Texas, to any country with which the United States does not have a free trade agreement (FTA) requiring national treatment for trade in natural gas, which currently has or in the future develops the capacity to import LNG, and with which trade is not prohibited by U.S. law or policy (non-FTA countries).³ GPLNG is authorized to export this LNG in a volume equivalent to 937 billion cubic feet per year of natural gas for a term extending through December 31, 2050.⁴

¹ Golden Pass LNG Terminal LLC, DOE/FE Order No. 3978, Docket No. 12-156-LNG (Apr. 25, 2017), reh'g denied, DOE/FE Order No. 3978-A (Mar. 30, 2018), amended by DOE/FE Order No. 3978-B (Mar. 4, 2020) (transferring authorization from Golden Pass Products LLC to Golden Pass LNG Terminal LLC), further amended by DOE/FE Order No. 3978-C (Mar. 24, 2020) (extending export commencement deadline), further amended by DOE/FE Order No. 3978-D (Dec. 10, 2020) (extending export term), further amended by DOE/FECM Order No. 3978-E (Apr. 27, 2022) (increasing authorized volume), reh'g denied, DOE/FECM Order No. 3978-F (June 24, 2022). In addition, GPLNG's export authorization was amended by DOE/FE Order No. 4641 (Dec. 18, 2020) to include short-term export authority on a non-additive basis.

² The initial order authorized exports from the “existing Golden Pass LNG Terminal.” The facility, with later modifications—and including those currently under construction—is now known as the GPLNG Export Terminal.

³ 15 U.S.C. 717b(a).

⁴ DOE/FE Order No. 3978, as amended in DOE/FECM Order No. 3978-E (Ordering Para. A).

GPLNG notes that the Federal Energy Regulatory Commission (FERC) initially approved its Project facilities, including the Terminal, in 2016.⁵ GPLNG has also asked FERC to extend the in-service deadline associated with the Project facilities—currently November 30, 2026.⁶

⁵ Golden Pass Prods. LLC & Golden Pass Pipeline LLC, 157 FERC ¶ 61,222 (2016).

⁶ Golden Pass LNG Terminal LLC, Request for Extension of Commencement Deadline, Docket Nos. 12-156-LNG and 12-88-LNG, at 2 n.6 (Aug. 28, 2024) [hereinafter Request]. The “in-service deadline” refers to the date by which the Project's facilities must be operational under FERC's authorization, rather than the date by which commercial exports must begin under DOE's authorization.

As relevant here, Order No. 3978, as amended, requires GPLNG to make its first export of LNG from the Terminal no later than September 30, 2025.⁷

⁷ DOE/FECM Order No. 3978-E, at 53 (Ordering Para. A). Additionally, GPLNG asks DOE to amend its existing FTA authorization (DOE/FE Order No. 3147, as amended). DOE will address the FTA portion of the Request separately pursuant to NGA section 3(c), 15 U.S.C. 717b(c).

Request for Extension

In its Request, GPLNG asks DOE to extend the deadline for commencement of commercial LNG export operations from the GPLNG terminal by 18 months to March 31, 2027.⁸ GPLNG states that the additional 18-month period would account “for both the delays caused by the bankruptcy filing of the lead construction contractor, Zachry Industrial Inc. [(Zachry)], remaining uncertainties regarding the transition to a new lead contractor, possible unpredictable delays that may occur during the remaining construction activities such as potential hurricane impacts, and for commissioning and start-up activities.” ⁹ GPLNG maintains that its Request is consistent with DOE's April 2023 Policy Statement on Export Commencement Deadlines,¹⁰ and that its proposed exports remain consistent with the public interest under NGA section 3(a).¹¹

⁸ Request at 2.

⁹ Id.

¹⁰ U.S. Dep't of Energy, Policy Statement on Export Commencement Deadlines in Authorizations to Export Natural Gas to Non-Free Trade Agreement Countries, 88 FR 25,272 (Apr. 26, 2023), https://www.energy.gov/sites/default/files/2023-06/Policy%20Statement%20on%20Export%20Commencement%20Deadlines%20in%20Authorizations%20to%20Export%20Natural%20Gas%20to%20Non-Free%20Trade%20Agreement%20Countries.pdf [hereinafter Commencement Extension Policy].

¹¹ See Request at 2.

In support of its Request, GPLNG asserts that good cause exists to grant the requested conditional extension of time, and that GPLNG's authorized exports remain in the public interest. GPLNG also states that it meets the criteria established by DOE in the Commencement Extension Policy for such requests. Specifically, GPLNG argues that “an extension of the commercial operations deadline is necessary due to extenuating circumstances outside of [its] control,” ¹² and that it “has been continuously and steadily engaged in construction” of the export facilities for over five years.¹³ GPLNG represents that at the time it filed its Request, “the LNG Facility [was] approximately 80% complete, including design and engineering work, and 65% complete in terms of physical construction.” ¹⁴ GPLNG executed an engineering, procurement, and construction (EPC) contract in January 2019, with Zachry as lead contractor.¹⁵ GPLNG states that Zachry was not able to complete the Project following a series of problems, and that Zachry notified GPLNG of its plan to exit the Project in April 2024, then filed for bankruptcy in May 2024.¹⁶ Although another party to the EPC contract has taken over as lead construction contractor, GPLNG is not confident that the Project can be completed by the current commencement deadline.¹⁷

¹² Id.

¹³ Id. at 3.

¹⁴ Id. at 4.

¹⁵ Id. at 5-6.

¹⁶ Id. at 8.

¹⁷ See Request at 9.

Additionally, GPLNG contends not only that its proposed exports are consistent with the public interest regardless of its commencement deadline, but also that “cancelling the Project at this stage would be affirmatively contrary to the public interest.” ¹⁸ GPLNG states that it has already invested billions of dollars in the Project, has over one thousand active operations contracts, and “has sold 100% of the LNG production.” ¹⁹ GPLNG concludes that “the public interest is served by this request to avoid the tremendous loss of jobs, economic activity, tax revenue benefiting state, regional and local governments, and billions of dollars of sunk private investment.” ²⁰

¹⁸ Id. at 10.

¹⁹ Id.

²⁰ Id. at 12.

Additional details can be found in the Request, posted on the DOE website at: https://www.energy.gov/sites/default/files/2024-08/Binder1.pdf.

DOE Evaluation

In reviewing GPLNG's Request, DOE will consider any issues required by law or policy under NGA section 3(a), DOE's regulations, DOE's Commencement Extension Policy, and any other documents deemed appropriate.

Parties that may oppose the Request should address these issues and documents in their comments and/or protests, as well as other issues deemed relevant to the Request.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable, addressing the Request. Interested parties will be provided 30 days from the date of publication of this Notice in which to submit comments, protests, motions to intervene, or notices of intervention. The public previously was given an opportunity to intervene in, protest, and comment on GPLNG's non-FTA application in Docket No. 12-156-LNG.²¹ Therefore, DOE will not consider comments or protests that do not bear directly on this Request.

²¹ See supra note 1.

Any person wishing to become a party to this proceeding evaluating GPLNG's Request must file a motion to intervene or notice of intervention.²² The filing of comments or a protest with respect to the Request will not serve to make the commenter or protestant a party to this proceeding, although protests and comments received from persons who are not parties will be considered in determining the appropriate action to be taken on the Request. All protests, comments, motions to intervene, or notices of intervention must meet the requirements specified by DOE's regulations in 10 CFR part 590, including the service requirements.

²² Status as an intervenor in prior proceeding(s) in this docket does not continue to this proceeding evaluating GPLNG's Request, and therefore any person interested in intervening to address the Request must file a new motion to intervene (or notice of intervention, as applicable). 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 12-156-LNG” or “GPLNG Request” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Request, and any filed protests, motions to intervene, notices of intervention, and comments will be available electronically on the DOE website at www.energy.gov/fecm/regulation.

A decisional record on the Request will be developed through responses to this Notice by parties, including the parties' written comments and replies thereto. Additional procedures will be used as necessary to achieve a complete understanding of the facts and issues. If an additional procedure is scheduled, notice will be provided to all parties. If no party requests additional procedures, a final Order may be issued based on the official record, including the Request and responses filed by parties pursuant to this Notice, in accordance with 10 CFR 590.316.

Signed in Washington, DC, on September 23, 2024.
Amy R. Sweeney,
Director, Office of Regulation, Analysis, and Engagement, Office of Resource Sustainability.

[FR Doc. 2024-22053 Filed 9-25-24; 8:45 am]

BILLING CODE 6450-01-P